DEPARTMENT OF LABOR

Employment and Training Administration

[TA-W-83,242E]

AT&T Services, Inc., Information Technology Operations Division, White Plains, New York; Amended Certification Regarding Eligibility To Apply for Worker Adjustment Assistance

In accordance with Section 223 of the Trade Act of 1974, as amended (“Act”), 19 U.S.C. 2273, the Department of Labor issued a Certification of Eligibility to Apply for Worker Adjustment Assistance on February 21, 2014, applicable to workers of AT&T Services, Inc., Information Technology Operations Division, including on-site leased workers from Accenture LLP, OnX USA LLC (Formerly Agilysys), and IBM Corporation, Atlanta, Georgia (TA-W-83,242), AT&T Services, Inc., Information Technology Operations Division, including on-site leased workers from Accenture LLP, OnX USA LLC (Formerly Agilysys), IBM Corporation, Paragon Computer Professional, Inc., Cisco Systems, Inc., Paragon Solutions and Wavecreste, Inc., (Formerly Genesis Networks Inc.), Middletown, New Jersey (TA-W-83,242A), AT&T Services, Inc., Information Technology Operations Division, Columbus, Ohio (TA-W-83,242B), and AT&T Services, Inc., Information Technology Operations Division, including on-site leased workers from IBM Corporation, Dallas, Texas (TA-W-83,242C). The Department's Notice of Determination was published in the Federal Register on March 14, 2014 (79 FR 05545).

In response to request from the company official, the Department reviewed the certification for workers of the subject firm. The workers were engaged in the supply of telecommunications services.

The investigation confirmed that worker separations at AT&T Services, Information Technology Operations Division, White Plains, New York are attributable to the same acquisition of services that contributed importantly to separations at the four certified locations. Based on these findings, the Department is amending this certification to include workers located at AT&T Services, Inc., Information Technology Operations Division, White Plains, New York.

The amended notice applicable to TA-W-83,242 is hereby issued as follows:

All workers of AT&T Services, Inc., Information Technology Operations Division, including on-site leased workers from Accenture LLP, OnX USA LLC (Formerly Agilysys), and IBM Corporation, Atlanta, Georgia (TA-W-83,242), AT&T Services, Inc., Information Technology Operations Division, including on-site leased workers from Accenture LLP, OnX USA LLC (Formerly Agilysys), IBM Corporation, Paragon Computer Professional, Inc., Cisco Systems, Inc., Paragon Solutions and Wavecreste, Inc., (Formerly Genesis Networks Inc.,), Middletown, New Jersey (TA-W-83,242A), AT&T Services, Inc., Information Technology Operations Division, Columbus, Ohio (TA-W-83,242B), and AT&T Services, Inc., Information Technology Operations Division, including on-site leased workers from IBM Corporation, Dallas, Texas (TA-W-83,242C), AT&T Services, Inc., Information Technology Operations Division, San Ramon, California (TA-W-83,242D) and AT&T Services, Inc., Information Technology Operations Division, White Plains, New York (TA-W-83,242E), who became totally or partially separated from employment on or after November 22, 2012, through February 21, 2016, and all workers in the group threatened with total or partial separation from employment on the date of certification through February 21, 2016, are eligible to apply for adjustment assistance under Chapter 2 of Title II of the Trade Act of 1974, as amended.

Signed in Washington, DC, this 16th day of October, 2014.
Michael W. Jaffe,
Certifying Officer, Office of Trade Adjustment Assistance.

[FR Doc. 2014-27782 Filed 11-24-14; 8:45 am]

BILLING CODE 4510-FN-P